DEPARTMENT OF THE INTERIOR

Bureau of Land Management

Colorado: Filing of Plats of Survey

July 1, 2005.

Summary: The plats of survey of the following described land will be officially filed in the Colorado State Office, Bureau of Land Management, Lakewood, Colorado, effective 10 a.m., July 1, 2005. All inquiries should be sent to the Colorado State Office (CO-956), Bureau of Land Management, 2850 Youngfield Street, Lakewood, Colorado 80215-7093.

The plat, representing the dependent resurveys and surveys, in Township 21 South, Range 69 West, Sixth Principal Meridian, Group 1335, Colorado, was accepted June 15, 2005.

The plat, in two sheets, representing the metes-and-bounds survey of a portion of the boundary of the American Flats Wilderness Addition to the Uncompahgre Wilderness as described in Pub. L. 103-77, the “Colorado Wilderness Act of 1993”, in Suspended Townships 43 North, Ranges 6 and 7 West, New Mexico Principal Meridian, Group 1369, Colorado, was accepted June 10, 2005.

The supplemental plat creating lost 14, 15, 16 and 17 as a result of M.S. 18249, Grand Aspen, Black Cat and Protection lodes, being cancelled on March 4, 2005, in Township 48 North, Range 2 East, Sec. 29, New Mexico Principal Meridian, Colorado, was accepted April 19, 2005.

These plats and resurvey notes were requested by the Bureau of Land Management for administrative and management purposes.

The plat of survey requested by the U.S. Forest Service, Durango, Colorado, for the purpose of identifying the boundaries of National Forest lands, in Molas Park, in suspended Township 40 North, Range 7 West, New Mexico Principal Meridian, Group 1422, Colorado, was accepted May 19, 2005.

The plat, representing the dependent resurvey, and corrective dependent resurvey, in Township 32 North, Range 7 West, New Mexico Principal Meridian, Group 1418, Colorado, was accepted April 18, 2005. This survey was requested by the Southern Ute Indian Tribe, through the State Director, Colorado, in order to identify Southern Ute tribal trust lands.

The plat, representing the dependent resurvey and surveys in Township 48 North, Range 4 West, New Mexico Principal Meridian, Group 1396, Colorado, was accepted June 30, 2005. This survey was requested by the Bureau of Indian Affairs, with the approval of the State Director, Colorado, in order to identify the boundary of Ute Mountain Ute lands for management purposes.

Randall M. Zanon,
Chief Cadastral Surveyor for Colorado.

[FR Doc. 05-13868 Filed 7-13-05; 8:45 am]

BILLING CODE 4310-JB-M